DEPARTMENT OF ENERGY

Federal Energy Regulatory Commission

[Project No. 2030-073]

Portland General Electric Company and the Confederated Tribes of the Warm Springs Reservation of Oregon; Notice Extending Comment Period

August 1, 2006.

This notice applies to the Pelton Round Butte Hydroelectric Project, FERC No. P-2030. The project is licensed to Portland General Electric Company and the Confederated Tribes of the Warm Springs Reservation of Oregon (licensees).

On July 3, 2006, the Commission issued a Notice of Application and Soliciting Comments, Motions to Intervene, and Protests for an application by the licensees for a shoreline management plan as required by article 428 of the project license. The notice established July 31, 2006, as the deadline for filing comments or motions. This notice extends the deadline to August 31, 2006.

If you have any questions regarding this notice, please call Lesley Kordella at (202) 502-6406.

Magalie R. Salas,
Secretary.

[FR Doc. E6-13767 Filed 8-17-06; 8:45 am]

BILLING CODE 6717-01-P